DEPARTMENT OF THE INTERIOR

Bureau of Land Management

[BLM_CO_FRN_MO4500178021]

Notice of Joint Meeting of Colorado's Northwest and Southwest Resource Advisory Councils and Meeting of the Northwest Resource Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC) and Southwest RAC will meet as follows.

DATES: The Northwest RAC and Southwest RAC will host a field tour on May 1, 2024, from 10 a.m. to approximately 3 p.m. Mountain Time (MT) and a meeting on May 2, 2024, from 9 a.m. to 4:30 p.m. MT. The Northwest RAC will host a field tour on Aug. 21, 2024, from 10 a.m. to approximately 3 p.m. MT and a meeting on Aug. 22, 2024, from 8 a.m. to 3:30 p.m. MT. All field tours and meetings are open to the public.

ADDRESSES: The May 1 field tour will commence and conclude at the Bill Heddles Recreation Center, 531 N Palmer Street, Delta, CO 81416. Attendees will travel to the Dominguez-Escalante National Conservation Area (NCA). The May 2 meeting will be held at the Bill Heddles Recreation Center. The Zoom virtual registration link for this meeting is https://blm.zoomgov.com/meeting/register/vJIsf-Gorj8uGS2ns2SaoQcPh6GKVTX7fYU. The Aug. 21 field tour will commence and conclude at the Grand Junction Field Office, 2815 H Road, Grand Junction, CO 81506. Attendees will tour the West Salt area. The Aug. 22 meeting will be held at the Grand Junction Field Office. The Zoom virtual registration link for this meeting is https://blm.zoomgov.com/meeting/register/vJItcemhqjsjG_jwFKcMQR8l1qsWtyh1bXM.

FOR FURTHER INFORMATION CONTACT: JD Emerson, Public Affairs Specialist; BLM Northwest District Office, 455 Emerson St., Craig, CO 81625; telephone: 970-826-5101; email: jemerson@blm.gov. Individuals in the United States who are deaf, deafblind, hard of hearing, or have a speech disability may dial 711 (TTY, TDD, or TeleBraille) to access telecommunications relay services for contacting JD Emerson. Individuals outside the United States should use the relay services offered within their country to make international calls to the point-of-contact in the United States.

SUPPLEMENTARY INFORMATION: The 15-member Northwest and Southwest RACs advise the Secretary of the Interior, through the BLM, on a variety of public land issues. The Northwest RAC advises the BLM Northwest District, which includes the Kremmling, Little Snake, and White River field offices; and the Upper Colorado River Valley District, which includes the Grand Junction and Colorado River Valley Field Offices along with the Dominguez-Escalante and McInnis Canyons NCAs. The Southwest RAC advises the BLM Southwest District, which includes the Gunnison, Tres Rios, and Uncompahgre Field Offices.

The two RACs will participate in a field tour on May 1 within the Dominguez-Escalante Canyon NCA. Agenda items for the May 2 meeting include a discussion of the Dominguez-Escalante Canyon NCA Business Plan, the Escalante Ranch Acquisition, and field manager updates. A public comment period is scheduled at 2:30 p.m. MT. The Northwest RAC will conduct of field tour on Aug. 21 of the West Salt area. Agenda items for the Aug. 22 meeting include a review and discussion on the North Sandhills Recreation Area Business Plan, updates on Herd Management Areas, and field manager updates. A public comment period is scheduled at 2:30 p.m. MT. Public comments may be limited due to time constraints. The public may present written comments at least 2 weeks in advance of the meetings to the contact listed in the FOR FURTHER INFORMATION CONTACT section of this notice. Please include “RAC Comment” in your submission. Before including your address, phone number, email address, or other personal identifying information in your comment, you should be aware that your entire comment, including your personal identifying information, may be made publicly available at any time. While you can ask us in your comment to withhold your personal identifying information from public review, we cannot guarantee that we will be able to do so.

Members of the public are welcome to attend field tours but must provide their own transportation and meals. Individuals who plan to attend must RSVP at least 2 weeks in advance of the field tours to the contact listed in the FOR FURTHER INFORMATION CONTACT section of this notice. Additional information regarding the field tours and meetings will be available on the RAC's web page https://www.blm.gov/get-involved/resource-advisory-council/near-you/colorado/northwest-rac.

Detailed meeting minutes for the RAC meetings will be maintained in the Northwest District Office and will be available for public inspection and reproduction during regular business hours within 90 days following the meeting. Previous minutes and agendas are also available on the RAC's web page.

Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

(Authority: 43 CFR 1784.4-2)

Douglas J. Vilsack,
BLM Colorado State Director.

[FR Doc. 2024-06046 Filed 3-20-24; 8:45 am]

BILLING CODE 4331-16-P